INTERNATIONAL TRADE COMMISSION

[Investigation Nos. 701-TA-488 and 731-TA-1199-1200 (Review)]

Certain Large Residential Washers From Korea and Mexico

Determinations

On the basis of the record ¹ developed in the subject five-year reviews, the United States International Trade Commission (“Commission”) determines, pursuant to the Tariff Act of 1930 (“the Act”), that revocation of the antidumping and countervailing duty orders on large residential washers from Korea would not be likely to lead to continuation or recurrence of material injury to an industry in the United States within a reasonably foreseeable time, and that revocation of the antidumping duty order on large residential washers from Mexico would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on January 2, 2018 (83 FR 145) and determined on April 9, 2018 that it would conduct full reviews (83 FR 18347, April 26, 2018). Notice of the scheduling of the Commission's reviews and of a public hearing to be held in connection therewith was given by posting copies of the notice in the Office of the Secretary, U.S. International Trade Commission, Washington, DC, and by publishing the notice in the Federal Register on September 14, 2018 (83 FR 46757). Effective February 4, 2019, the Commission revised its schedule due to the lapse in appropriations and ensuing cessation of Commission operations (84 FR 2926, February 8, 2019). The hearing was held in Washington, DC, on February 21, 2019, and all persons who requested the opportunity were permitted to appear in person or by counsel.

The Commission made these determinations pursuant to section 751(c) of the Act (19 U.S.C. 1675(c)). It completed and filed its determinations in these reviews on April 24, 2019. The views of the Commission are contained in USITC Publication 4482 (April 2019), entitled Large Residential Washers from Korea and Mexico: Investigation Nos. 701-TA-488 and 731-TA-1199-1200 (Review).

By order of the Commission.
Issued: April 24, 2019.
Lisa Barton,
Secretary to the Commission.

[FR Doc. 2019-08671 Filed 4-29-19; 8:45 am]

BILLING CODE 7020-02-P